DEPARTMENT OF COMMERCE

National Oceanic and Atmospheric Administration

50 CFR Part 635

[I.D. 091106B]

RIN 0648-AU84

Atlantic Highly Migratory Species; Atlantic Commercial Shark Management Measures

AGENCY: National Marine Fisheries Service (NMFS), National Oceanic and Atmospheric Administration (NOAA), Commerce.

ACTION: Proposed rule; extension of comment period.

SUMMARY: This action extends the comment period for an October 5, 2006, proposed rule regarding the first 2007 fishing season for Atlantic sharks to November 17, 2006. This extension is due to late dealer reports that significantly changed landings estimates of large and small coastal sharks during the first trimester of 2006. This action releases the revised landings estimates.

DATES: The deadline for written comments on the October 5, 2006 (71 FR 58778), proposed rule has been extended from November 13 to no later than 5 p.m. on November 17, 2006.

ADDRESSES: Written comments on the proposed rule may be submitted to Michael Clark, Highly Migratory Species Management Division via:

• E-mail: SF1.091106B@noaa.gov.

• Mail: 1315 East-West Highway, Silver Spring, MD 20910. Please mark on the outside of the envelope “Comments on Proposed Rule for 2007 1st Trimester Season Lengths and Quotas”.

• Fax: 301-713-1917.

• Federal e-Rulemaking Portal: http://www.regulations.gov. Include in the subject line the following identifier: “I.D. 091106B”.

Copies of the associated draft Environmental Assessment (EA) and other relevant documents are available on the Highly Migratory Species Management Division's Web site at http://www.nmfs.noaa.gov/sfa/hms or by contacting Michael Clark (see FOR FURTHER INFORMATION CONTACT).

FOR FURTHER INFORMATION CONTACT: Michael Clark or Karyl Brewster-Geisz by phone: 301-713-2347 or by fax: 301-713-1917.

SUPPLEMENTARY INFORMATION: The Atlantic shark fishery is managed under the authority of the Magnuson-Stevens Fishery Conservation and Management Act (Magnuson-Stevens Act). NMFS recently finalized a Consolidated Highly Migratory Species Fishery Management Plan (HMS FMP) that consolidated and replaced previous FMPs for Atlantic Billfish and Atlantic Tunas, Swordfish, and Sharks (October 2, 2006; 71 FR 58058). The HMS FMP is implemented by regulations at 50 CFR part 635.

On October 5, 2006, NMFS published a proposed rule (71 FR 58778) that requested comments on the draft EA and scheduled three public hearings throughout October 2006 to receive comments from fishery participants and other members of the public regarding the first 2007 fishing season for Atlantic sharks. On October 20, 2006, NMFS was notified that the Southeast Fishery Science Center (SEFSC) had not received all of the dealer reports for the 2006 first trimester, and that some landings had not been accounted for in the proposed rule or in previously released landing updates. Based on late dealer reports that had the potential to change landings estimates of large and small coastal sharks in the Gulf of Mexico and South Atlantic during the first trimester of 2006, NMFS notified the public (71 FR 64213; November 1, 2006) that NMFS was receiving late landing reports and extended the comment period from November 1, 2006, to 5 p.m. on November 13, 2006.

Since October 20, NMFS has been working to ensure that revised estimates are accurate; however, some dealers still have not reported. Due to the additional landing reports received by SEFSC, total landings of LSC and small coastal sharks (SCS) in the GOM and South Atlantic have increased. Revised landings from reports received as of November 6, 2006, are summarized in Table 1. A side-by-side comparison of the landings published in the proposed rule (71 FR 58778; October 5, 2006) and the revised estimates received from NMFS Southeast Fisheries Science Center (SEFSC) on November 6, 2006 are presented in Table 2.

Table 1.—Revised Landing Estimates for the 2006 First Trimester Season From the Pelagic Dealer Compliance (PDC) and the Automated Landings Reporting System (ALS)
Species groups | Region | Season closure date | 2006 1st Season quota (mt dw) | Estimated landings (mt dw) | Percent quota taken
| Gulf of Mexico | CLOSED April 15 | 222.8 | 336.6 | 151.1
Large Coastal Sharks | South Atlantic | CLOSED March 15 | 141.3 | 393.1 | 278.2
| North Atlantic | CLOSED April 30 | 5.3 | 0.2 | 3.8
| Gulf of Mexico |  | 14.8 | 78.0 | 527
Small Coastal Sharks | South Atlantic | CLOSED April 30 | 284.6 | 44.5 | 15.6
| North Atlantic |  | 18.7 | 0.0 | 0
Blue Sharks |  |  | 91.0 | 0.04 | 0
Porbeagle Sharks | No Regional Quotas | CLOSED April 30 | 30.7 | 0.5 | 1.5
Other Pelagics |  |  | 162.7 | 19.9 | 12.2

Table 2.—A Comparison of LCS and SCS Landings Published in the October 5, 2006 Proposed Rule and the Revised Landings Estimates Received November 6, 2006
Species groups | Region | 2006 1st Season quota (mt dw) | Landings in proposed rule (mt dw) | Revised landings as of 11/6/06 (mt dw) | Under (+) and over (−) harvest in proposed rule (mt dw) | Revised under (+) and over (−) harvest as of 11/6/06 (mt dw)
Large Coastal Sharks (LCS) | Gulf of Mexico | 222.8 | 103.1 | 336.6 | 119.7 | −113.8
| South Atlantic | 141.3 | 326.1 | 393.1 | −184.3 | −251.8
| North Atlantic | 5.3 | 0.3 | 0.2 | 5.0 | 5.1
Small Coastal Sharks (SCS) | Gulf of Mexico | 14.8 | 5.0 | 78.0 | 9.8 | −63.2
| South Atlantic | 284.6 | 42.1 | 44.5 | 242.5 | 240.1
| North Atlantic | 18.7 | 0.1 | 0.0 | 18.6 | 18.7

NMFS is currently considering options to address the overharvest of LCS and SCS in the GOM, and is reviewing options for the South Atlantic as outlined in the proposed rule (71 FR 58778). In order to provide opportunity for public constituents to review the revised landings and provide comment, NMFS is extending the public comment period on the proposed rule and draft EA to 5 p.m., November 17, 2006.

Authority: 16 U.S.C. et seq.; 16 U.S.C. 1801 et seq.

Dated: November 7, 2006.
James Burgess,
Acting Deputy Director, Office of Sustainable Fisheries, National Marine Fisheries Service.

[FR Doc. 06-9176 Filed 11-7-06; 2:23 pm]

BILLING CODE 3510-22-P